DEPARTMENT OF THE INTERIOR

National Park Service

[NPS-WASO-NAGPRA-18271; PPWOCRADN0-PCU00RP15.R50000]

Notice of Intent To Repatriate Cultural Items: Palm Springs Art Museum, Palm Springs, CA

AGENCY: National Park Service, Interior.

ACTION: Notice.

SUMMARY: The Palm Springs Art Museum, in consultation with the appropriate Indian tribes or Native Hawaiian organizations, has determined that the cultural item listed in this notice meets the definition of a sacred object. Lineal descendants or representatives of any Indian tribe or Native Hawaiian organization not identified in this notice that wish to claim this cultural item should submit a written request to the Palm Springs Art Museum. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Palm Springs Art Museum at the address in this notice by July 9, 2015.

ADDRESSES: Shelley Orlowski, Registrar, Palm Springs Art Museum, 101 Museum Drive, Palm Springs, CA 92263, telephone (760) 322-4805, email Sorlowski@psmuseum.org.

SUPPLEMENTARY INFORMATION: Notice is here given in accordance with the Native American Graves Protection and Repatriation Act (NAGPRA), 25 U.S.C. 3005, of the intent to repatriate a cultural item under the control of the Palm Springs Art Museum, Palm Springs, CA, that meets the definition of sacred objects under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

Prior to 1988, one sacred object was removed from a shrine on the Pueblo of San Felipe in San Felipe Pueblo, NM. In 1988, George Shaw of Aspen, CO, purchased this object from a private dealer in Arizona. In 2004, Shaw sold the object to Perry J. Lewis of Danbury, CT. Lewis held the object in his private collection until December 18, 2012, when he gifted it to the Palm Springs Art Museum. The one sacred object is a Stone Mountain Lion Shrine Fetish.

On March 16, 2015, Ronald Tenorio, Governor of the Pueblo of San Felipe, New Mexico, sent a letter to the Palm Springs Art Museum claiming this object as a sacred cultural object. Four markers with inlay indicate to Governor Tenorio that this object is one that has been noted as missing from a shrine on the Pueblo of San Felipe, New Mexico.

Determinations Made by the Palm Springs Art Museum

Officials of the Palm Springs Art Museum have determined that:

• Pursuant to 25 U.S.C. 3001(3)(C), the cultural item described above is a specific ceremonial object needed by traditional Native American religious leaders for the practice of traditional Native American religions by their present-day adherents.

• Pursuant to 25 U.S.C. 3001(2), there is a relationship of shared group identity that can be reasonably traced between the sacred object and the Pueblo of San Felipe, New Mexico.

Additional Requestors and Disposition

Lineal descendants or representatives of any Indian tribe or Native Hawaiian organization not identified in this notice that wish to claim these cultural items should submit a written request with information in support of the claim to Shelley Orlowski, Registrar, Palm Springs Art Museum, 101 Museum Drive, Palm Springs, CA 92263, telephone (760) 322-4805, email Sorlowski@psmuseum.org, by July 9, 2015. After that date, if no additional claimants have come forward, transfer of control of the sacred object to the Pueblo of San Felipe, New Mexico, may proceed.

The Palm Springs Art Museum is responsible for notifying the Pueblo of San Felipe, New Mexico, that this notice has been published.

Dated: May 6, 2015.
Mariah Soriano,
Acting Manager, National NAGPRA Program.

[FR Doc. 2015-14114 Filed 6-8-15; 8:45 am]

BILLING CODE 4312-50-P